DEPARTMENT OF LABOR

Employment and Training Administration

[TA-W-83,183]

Page 1 Solutions, LLC, A Subsidiary of Network Affiliates, Web Site Development, Search Engine Optimization and Pay Per Click Departments, Golden, Colorado; Amended Certification Regarding Eligibility To Apply for Worker Adjustment Assistance

In accordance with Section 223 of the Trade Act of 1974, as amended (“Act”), 19 U.S.C. 2273, the Department of Labor issued a Certification of Eligibility to Apply for Worker Adjustment Assistance on December 13, 2013, applicable to workers of Page 1 Solutions, LLC, Web site Development, Search Engine Optimization and Pay Per Click Departments, Golden, Colorado. The workers are engaged in activities related to the supply of Web site development, Web site updates, search engine optimization and pay per click services. The notice was published in the Federal Register on January 10, 2014 (79 FR 1893).

At the request of a state workforce official, the Department reviewed the certification for workers of the subject firm. New information from the company shows that Page 1 Solutions, LLC is a subsidiary of Network Affiliates.

The intent of the Department's certification is to include all workers of the subject firm who were adversely affected by an acquisition of services from a foreign country and who were paid through Network Affiliates.

The amended notice applicable to TA-W-83,183 is hereby issued as follows:

All workers of Page 1 Solutions, LLC, a subsidiary of Network Affiliates, Web site Development, Search Engine Optimization and Pay Per Click Departments, Golden, Colorado, who became totally or partially separated from employment on or after October 28, 2012, through December 13, 2015 and all workers in the group threatened with total or partial separation from employment on the date of certification through December 13, 2015, are eligible to apply for adjustment assistance under Chapter 2 of Title II of the Trade Act of 1974, as amended.

Signed at Washington, DC, this 31st day of March 2014.
Michael W. Jaffe,
Certifying Officer, Office of Trade Adjustment Assistance.

[FR Doc. 2014-08294 Filed 4-11-14; 8:45 am]

BILLING CODE 4510-FN-P